FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 13, 2013.

A. Federal Reserve Bank of Philadelphia (William Lang, Senior Vice President) 100 North 6th Street, Philadelphia, Pennsylvania 19105-1521:

1. Jane Anne Ferrier, individually, and as trustee and sole beneficiary of the Ferrier Family Trust 2; Thomas L. Ferrier and Jane A. Ferrier, all of San Diego, California, individually and as trustees and beneficiaries of the Ferrier Family Trust 3; Sharon F. Risse, San Diego, California, individually and as trustee and sole beneficiary of the Sharon Risse Trust; Andrew P. Ferrier, San Francisco, California, individually and as trustee and sole beneficiary of the Andrew Ferrier Trust; all together a group acting in concert, to acquire voting shares of First Community Financial Corporation, and thereby indirectly acquire voting shares of First National Bank of Mifflintown, both in Mifflintown, Pennsylvania.

B. Federal Reserve Bank of Chicago (Colette A. Fried, Assistant Vice President) 230 South LaSalle Street, Chicago, Illinois 60690-1414:

1. Jay Douglas Bergman, Joliet, Illinois; to acquire voting shares of Community Holdings Corp., Palos Hills, Illinois, and thereby indirectly acquire voting shares of Firstsecure Bank and Trust Company, Palos Hills, Illinois.

C. Federal Reserve Bank of Kansas City (Dennis Denney, Assistant Vice President) 1 Memorial Drive, Kansas City, Missouri 64198-0001:

1. Clea Alsip, Brooklyn, New York; Patti Janese Hager, Edmond, Oklahoma; Zela Mae Hanson, Tulsa, Oklahoma; Patricia Ann McCortney, Farmers Branch, Texas; Vicki Lynn Patton and Jerry Scott Grandchildren's Trust, both of Ada, Oklahoma; Kamberly Dawn or Richard Clay Skoch, Yukon, Oklahoma; and Tammy Key, Sulphur, Oklahoma, as shareholders and members to the Vision Bancshares, Inc. Voting Agreement; to retain voting shares of Vision Bancshares, Inc., and thereby indirectly retain voting shares of Vision Bank, National Association, both in Ada, Oklahoma.

Board of Governors of the Federal Reserve System, August 26, 2013.
Michael J. Lewandowski,
Associate Secretary of the Board.

[FR Doc. 2013-21100 Filed 8-28-13; 8:45 am]

BILLING CODE 6210-01-P